DEPARTMENT OF THE INTERIOR

National Park Service

[NPS-WASO-CONC-19592; PPWOBSADC0, PPMVSCS1Y.Y00000]

Notice of Continuation of Concession Contracts

AGENCY: National Park Service, Interior.

ACTION: Public notice.

SUMMARY: Pursuant to the terms of existing concession contracts, public notice is hereby given that the National Park Service intends to request a continuation of visitor services for the periods specified below.

DATES: Effective January 1, 2016.

FOR FURTHER INFORMATION CONTACT: Brian Borda, Chief, Commercial Services Program, National Park Service, 1201 Eye Street NW., 11th Floor, Washington, DC 20005, Telephone: 202-513-7156.

SUPPLEMENTARY INFORMATION: The contracts listed below have been extended to the maximum allowable under 36 CFR 51.23. Under the provisions of the respective concession contracts and pending the completion of the public solicitation of a prospectus for a new concession contract, the National Park Service authorizes continuation of visitor services for a period not-to-exceed 1 year under the terms and conditions of the current contract as amended. The continuation of operations does not affect any rights with respect to selection for award of a new concession contract. The publication of this notice merely reflects the intent of the National Park Service but does not bind the National Park Service to continue any of the contracts listed below.

CONCID | Concessioner | Park unit
NACC001-89 | Golf Course Specialists, Inc | National Mall and Memorial Parks.
NACC003-86 | Guest Services, Inc | National Mall and Memorial Parks.
INDE001-94 | Concepts by Staib, Ltd. | Independence National Historical Park.
BLRI001-83 | Southern Highland Handicraft Guild, Inc | Blue Ridge Parkway.
CAHA001-98 | Koru Village Incorporated | Cape Hatteras National Seashore.
CAHA004-98 | Oregon Inlet Fishing Center, Inc | Cape Hatteras National Seashore.
VIIS001-71 | CBI Acquisitions, LLC | Virgin Islands National Park.
GLCA002-88 | ARAMARK Sports and Entertainment Services, Inc | Glen Canyon National Recreation Area.
GLCA003-69 | ARAMARK Sports and Entertainment Services, Inc | Glen Canyon National Recreation Area.
PEFO001-85 | Xanterra Parks & Resorts, Inc | Petrified Forest National Park.
LAKE001-73 | Rex G. Maughan & Ruth G. Maughan | Lake Mead National Recreation Area.
LAKE002-82 | Lake Mead R.V. Village, LLC | Lake Mead National Recreation Area.
LAKE005-97 | Rex G. Maughan & Ruth G. Maughan | Lake Mead National Recreation Area.
LAKE006-74 | Las Vegas Boat Harbor, Inc | Lake Mead National Recreation Area.
LAKE007-84 | Seven Resorts, Inc | Lake Mead National Recreation Area.
LAKE009-88 | Temple Bar Marina, LLC | Lake Mead National Recreation Area.

Dated: December 4, 2015.
Lena McDowall,
Chief Financial Officer.

[FR Doc. 2015-31332 Filed 12-11-15; 8:45 am]

BILLING CODE 4312-53-P